DEPARTMENT OF TRANSPORTATION

Federal Highway Administration

[Docket No. FHWA-2004-18783]

Agency Information Collection Activities; Request for Comments; Clearance of a New Information Collection; Freight Operations Follow-Up

AGENCY: Federal Highway Administration (FHWA), DOT.

ACTION: Notice and request for comments.

SUMMARY: The FHWA invites public comments about our intention to request the Office of Management and Budget's (OMB) approval for a new information collection, which is summarized below under Supplementary Information. We are required to publish this notice in the Federal Register by the Paperwork Reduction Act of 1995.

DATES: Please submit comments by January 18, 2005.

ADDRESSES: You may submit comments identified by DOT DMS Docket Number FHWA-2004-18783 by any of the following methods:

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590.

• Hand Delivery: Room PL-401 on the plaza level of the Nassif Building, 400 Seventh Street, SW., Washington, DC, between 9 a.m. and 5 p.m., Monday through Friday, except Federal holidays.

Docket: For access to the docket to read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Julie Strawhorn, 202-366-4415, Office of Freight Management and Operations, Federal Highway Administration, Department of Transportation, 400 Seventh Street, SW., Washington, DC 20590. Office hours are from 7:30 a.m. to 5 p.m., Monday through Friday, except Federal holidays.

SUPPLEMENTARY INFORMATION:

Title: Freight Operations Follow-Up.

Abstract: The Office of Freight Operations is continually receiving inquiries from the public on Federal requirements for commercial motor vehicle size and weight enforcement. In order to better serve the community and ensure that satisfactory resolutions are received regarding the inquiries, a Freight Operations Follow-Up Feedback form has been developed. This feedback will be used to help assess internal strengths and weaknesses of the FHWA Size and Weight Team's customer service activity, and it is necessary for the Office of Freight Operations to better serve the community. The form is brief, simple, and unobtrusive in nature, and consists of the following 5 satisfaction-related questions.

1. The general identity of the respondent, within 14 specified categories (individual citizen, truck or bus driver, representative of truck or bus industry association, public interest group, commercial motor carrier, shipper/receiver, State transportation official, State police or highway patrol, FHWA headquarters staff, FHWA Division staff, other U.S. DOT staff, Congressional staff, other Federal government staff, and other).

2. Reason(s) for contacting the FHWA headquarters Size and Weight Team.

3. The appropriateness, courtesy, and timeliness of the FHWA headquarters Size and Weight Team's response to customer's inquiry.

4. How the FHWA Headquarters Size and Weight Team may better respond to inquiries.

5. Other comments.

This information will be collected by linking the feedback form to the FHWA size and weight Web site. This will enable the public to both pull the form from the Web site should someone need to comment about service, and to receive the form when given a response to an inquiry from the FHWA headquarters Size and Weight Team.

Respondents: Approximately 300 people from the general public who send written, electronic, or telephone inquiries to the FHWA headquarters size and weight team, annually.

Frequency: This feedback will be continually collected to allow the FHWA headquarters size and weight team to monitor customer satisfaction with inquiry responses.

Estimated Average Burden per Response: 5 minutes.

Estimated Total Annual Burden Hours: 25 burden hours annually.

Public Comments Invited: You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. The agency will summarize and/or include your comments in the request for OMB's clearance of this information collection.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Authority: The Paperwork Reduction Act of 1995; 44 U.S.C. chapter 35, as amended; and 49 CFR 1.48.

Issued on: November 2, 2004.
James R. Kabel,
Chief, Management Programs and Analysis Division.

[FR Doc. 04-25445 Filed 11-16-04; 8:45 am]

BILLING CODE 4910-22-P